DEPARTMENT OF THE INTERIOR

National Park Service

Notice of Inventory Completion: U.S. Department of Justice, United States Marshals Service, Western District of Oklahoma, Oklahoma City, OK

AGENCY: National Park Service, Interior.

ACTION: Notice.

Notice is here given in accordance with the Native American Graves Protection and Repatriation Act (NAGPRA), 25 U.S.C. 3003, Sec. 5, of the completion of an inventory of human remains and associated funerary objects in the possession of the U.S. Department of Justice, United States Marshals Service, Western District of Oklahoma, Oklahoma City, OK. These human remains and associated funerary objects were removed from Greer County, OK.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

A detailed assessment of the human remains was made by United States Marshals Service professional staff in consultation with representatives of the Apache Tribe of Oklahoma; Caddo Indian Tribe of Oklahoma; Cheyenne-Arapaho Tribes of Oklahoma; Chickasaw Nation, Oklahoma; Choctaw Nation of Oklahoma; Comanche Nation, Oklahoma; Quapaw Tribe of Indians, Oklahoma; and Wichita and Affiliated Tribes (Wichita, Keechi, Waco & Tawakonie), Oklahoma. Representatives of the Oklahoma Archeological Survey; Sam Noble Oklahoma Museum of Natural History; and U.S. Department of Interior, Bureau of Indian Affairs were also consulted.

At an unspecified date, human remains representing a minimum of one individual were collected from a specific site in or around Greer County, OK. On June 30, 2001, the human remains were seized by the United States Marshals Service as part of an asset forfeiture from a private residence in Greer County, OK. No known individual was identified. The one associated funerary object is an olivella shell bead.

Based on the general condition of the human remains and the lack of historic period artifacts in the collection that was seized, it is believed that these human remains and associated funerary object were originally interred between 3000 B.C. and A.D. 1500. Archeological evidence indicates that during the period from 3000 B.C. to A.D. 1500, the area including present-day Greer County, OK, was occupied by semisedentary horticulturalists believed to be the ancestors of members of the present-day Wichita and Affiliated Tribes (Wichita, Keechi, Waco & Tawakonie), Oklahoma.

Other items seized as part of the asset forfeiture, including beads, grinding stones, flake tools, scrapers, and arrowheads, do not appear to meet the statutory definition of “associated funerary objects.” Officials of the United States Marshals Service have determined, pursuant to standard practice regarding personal property, as set forth in 28 CFR 0.111 (i) and the Attorney General’s Guidelines on Seized and Forfeited Property (July 1990), that these items are subject to transfer to the U.S. Department of the Interior, Bureau of Indian Affairs.

Officials of the United States Marshals Service have determined that, pursuant to 25 U.S.C. 3001, Sec. 2 (9-10), the human remains listed above represent the physical remains of one individual of Native American ancestry. Officials of the United States Marshals Service also have determined that, pursuant to 25 U.S.C. 3001, Sec. 2 (3)(A), the one object listed above is reasonably believed to have been placed with or near individual human remains at the time of death or later as part of the death rite or ceremony. Lastly, officials of the United States Marshals Service have determined that, pursuant to 25 U.S.C. 3001, Sec. 2 (2), there is a relationship of shared group identity that can be reasonably traced between these Native American human remains and associated funerary object and the Wichita and Affiliated Tribes (Wichita, Keechi, Waco & Tawakonie), Oklahoma.

Representatives of any other Indian tribe that believes itself to be culturally affiliated with these human remains and associated funerary object should contact Mr. John Laster, Deputy U.S. Marshal, United States Marshals Service, 200 NW 4th Street, 2nd Floor, Oklahoma City, OK, 73102, telephone (405) 231-4206, before April 14, 2003. Repatriation of these human remains and associated funerary object to the Wichita and Affiliated Tribes (Wichita, Keechi, Waco & Tawakonie), Oklahoma may proceed after that date if no additional claimants come forward.

The United States Marshals Service is responsible for notifying the Apache Tribe of Oklahoma; Caddo Indian Tribe of Oklahoma; Cheyenne-Arapaho Tribes of Oklahoma; Chickasaw Nation, Oklahoma; Choctaw Nation of Oklahama; Comanche Nation, Oklahoma; Quapaw Tribe of Indians, Oklahoma; and Wichita and Affiliated Tribes (Wichita, Keechi, Waco & Tawakonie), Oklahoma that this notice has been published.

Dated: January 28, 2003.
John Robbins,
Assistant Director, Cultural Resources Stewardship and Partnerships.

[FR Doc. 03-6214 Filed 3-13-03; 8:45 am]

BILLING CODE 4310-70-S